FEDERAL COMMUNICATIONS COMMISSION

[GN Docket No. 12-268; DA 14-759]

Wireless Telecommunications Bureau Provides Details About Partial Economic Areas

AGENCY: Federal Communications Commission.

ACTION: Notice.

SUMMARY: In this document, the Wireless Telecommunications Bureau provides details about Partial Economic Areas, which the Commission adopted as the service area for 600 MHz Band licenses. This document provides a list of the 416 Partial Economic Areas with their corresponding Economic Area and a list of counties with the corresponding Partial Economic Area.

FOR FURTHER INFORMATION CONTACT: Paul Malmud, Broadband Division, Wireless Telecommunications Bureau, at (202) 418-0006 or by email at Paul.Malmud@fcc.gov.

SUPPLEMENTARY INFORMATION: This is a summary of the Wireless Telecommunications Bureau's public notice released on June 2, 2014, DA 14-759. Copies of the public notice and any subsequently-filed documents in this matter may be obtained from Best Copy and Printing, Inc., in person at 445 12th Street SW., Room CY-B402, Washington, DC 20554, via telephone at (202) 488-5300, via facsimile at (202) 488-5563, or via email at fcc@bcpiweb.com. The public notice and any associated documents are also available for public inspection and copying during normal reference room hours at the following Commission office: FCC Reference Information Center, 445 12th Street SW., Room CY-A257, Washington, DC 20554. The complete text is also available on the Commission's Web site at http://hraunfoss.fcc.gov/edocs_public/attachmatch/DA-14-759A1.docx. To request materials in accessible formats for people with disabilities (Braille, large print, electronic files, audio format), send an email to fcc504@fcc.gov or call the Consumer & Governmental Affairs Bureau at 202-418-0530 (voice), 202-418-0432 (tty).

Synopsis

1. In the Incentive Auction Report and Order (See Expanding the Economic and Innovation Opportunities of Spectrum Through Incentive Auctions, GN Docket No. 12-268, Report and Order, FCC 14-50 (rel. June 2, 2014)), the Commission adopted Partial Economic Areas (PEAs) as the service area for 600 MHz Band licenses, with boundaries proposed by a coalition of wireless service providers (See Letters from C. Sean Spivey, Assistant General Counsel for CCA, Jill Canfield, Assistant General Counsel for NTCA, Caressa Bennet, General Counsel for RWA, and John A. Prendergast, Counsel to Blooston Rural Carriers (PEA Coalition), to Marlene H. Dortch, Secretary, FCC, GN Docket No. 12-268 (filed Mar. 11, 2014 and Mar. 20, 2014)).

2. As directed by the Commission in the Incentive Auction Report and Order, this public notice provides a list of the 416 PEAs with their corresponding Economic Area and a list of counties showing the corresponding PEA. These lists are also available on the FCC's Web site: http://www.fcc.gov/oet/info/maps/areas/. The lists contained in the appendices retain the boundaries proposed by the PEA Coalition, but renumber the 416 PEAs to reflect rankings by population in the U.S., followed by the U.S. Territories and the Gulf of Mexico. The PEAs are named according to the largest city within each PEA.

Federal Communications Commission.
Roger Sherman,
Chief, Wireless Telecommunications Bureau.

BILLING CODE 6712-01-P

[FR Doc. 2014-21007 Filed 9-3-14; 8:45 am]

BILLING CODE 6712-01-C